DEPARTMENT OF AGRICULTURE

Forest Service

RIN 0596-AC71

Notice of Reopening of Public Comment Period—Proposed Directives for National Best Management Practices (BMPs) for Water Quality Protection on National Forest System (NFS) Lands

AGENCY: Forest Service, USDA.

ACTION: Notice of reopening of public comment period.

SUMMARY: The Forest Service is reopening the public comment period for the proposed directive regarding best management practices (BMPs) for water quality protection on National Forest System (NFS) lands for an additional 30 days. The original notice called for comments to be submitted by July 7, 2014.

DATES: Comments must be received, in writing, on or before August 21, 2014.

ADDRESSES: Submit comments electronically by following the instructions at the federal eRulemaking portal at http://www.regulation.gov. Comments may also be submitted by electronic mail to fsm2500@fs.fed.us or by mail to BMP Directive Comments, USDA Forest Service, Attn: Michael Eberle—WFWARP, 201 14th St. SW., Washington, DC 20250. If comments are submitted electronically, duplicate comments should not be sent by mail. Please confine comments to issues pertinent to the proposed directive, explain the reasons for any recommended changes, and, where possible, reference the specific section and wording being addressed. All comments, including names and addresses when provided, will be placed in the record and will be made available to the public for review and copying. The public may inspect the comments received on the proposed directive at the USDA Forest Service Headquarters, located in the Yates Federal Building at 201 14th Street SW., Washington, DC, on regular business days between 8:30 a.m. and 4:30 p.m. Those wishing to inspect the comments are encouraged to call ahead at (202) 205-1205 to facilitate entry into the building.

FOR FURTHER INFORMATION CONTACT: Michael Eberle, Watershed, Fish, Wildlife, Air and Rare Plants Staff at (202) 205-1093. Individuals who use telecommunication devices for the deaf (TDD) may call the Federal Information Relay Service at (800) 877-8339 between 8:00 a.m. and 8:00 p.m., Eastern Daylight Time, Monday through Friday.

SUPPLEMENTARY INFORMATION: The Forest Service proposed to revise Forest Service Manual (FSM 2500) and Handbook (FSH 2509.19) directives for best management practices (BMPs) for water quality protection on National Forest System (NFS) lands to establish a National system of BMPs and associated monitoring protocols and require their use on NFS lands in order to meet existing mandates under the Federal Water Pollution Control Act Amendments of 1972 (Clean Water Act) (Pub. L. 92-500) and corresponding State laws. To provide the public the opportunity to review and comment on these proposed directives, the Agency initiated a 60-day comment period which closed on July 7, 2014. The Agency has decided to reopen the comment period for an additional 30 days to provide an opportunity to gather additional public input to inform the final directives for National Best Management Practices (BMPs) for Water Quality Protection on National Forest System (NFS) Lands.

Dated: July 15, 2014.
Thomas L. Tidwell,
Chief, U.S. Forest Service.

[FR Doc. 2014-17163 Filed 7-21-14; 8:45 am]

BILLING CODE 3411-15-P